DEPARTMENT OF STATE

[Public Notice 4735]

Bureau of Democracy, Human Rights and Labor; Establishment of Advisory Committee on Persons With Disabilities

SUMMARY: The Advisory Committee on Persons with Disabilities has been established to serve the Secretary of State and the Administrator of the Agency for International Development in an advisory capacity with respect to the consideration of the interests of persons with disabilities in formulation and implementation of U.S. foreign policy and foreign assistance The Committee is established under the general authority of the Secretary and the Department of State as set forth in Title 22 of the United States Code, in particular sections 2656 and 2651a, and in accordance with the Federal Advisory Committee Act, as amended. Applications for membership on the Advisory Committee are presently being solicited. Interested persons may forward their résumé to Christopher N. Camponovo, Bureau of Democracy, Human Rights and Labor, U.S. Department of State, 2201 “C” St., NW., Washington, DC 20520 or, in electronic form, to camponovocn@state.gov. All résumés must be received by July 14, 2004.

Dated: June 24, 2004.
Christopher N. Camponovo,
Department of State, Bureau of Democracy, Human Rights and Labor.

[FR Doc. 04-14977 Filed 6-30-04; 8:45 am]

BILLING CODE 4710-18-P